NUCLEAR REGULATORY COMMISSION

10 CFR Part 72

[NRC-2013-0271]

RIN 3150-AJ31

List of Approved Spent Fuel Storage Casks: Transnuclear, Inc. Standardized Advanced NUHOMS® Horizontal Modular Storage System; Amendment No. 3

Correction

In rule document 2014-08346 appearing on pages 21121 through 21125 in the issue of Tuesday, April 15, 2014, the document heading is corrected to appear as seen above.

[FR Doc. C1-2014-08346 Filed 4-30-14; 8:45 am]

BILLING CODE 1505-01-D